DEPARTMENT OF COMMERCE

National Oceanic and Atmospheric Administration

50 CFR Parts 223 and 224

RIN 0648-XD680

Endangered and Threatened Wildlife; 90-Day Finding on a Petition to List the Common Thresher Shark as Threatened or Endangered Under the Endangered Species Act

AGENCY: National Marine Fisheries Service (NMFS), National Oceanic and Atmospheric Administration (NOAA), Commerce.

ACTION: Extension of public comment period.

SUMMARY: We, NMFS, announce the extension of the public comment period on our March 03, 2015, 90-day finding on a petition to list the Common Thresher Shark (Alopias vulpinus) as endangered or threatened under the ESA, or, in the alternative, delineate six distinct population segments (DPSs) of the common thresher shark, as described in the petition, and list them as endangered or threatened. As part of that finding, we solicited scientific and commercial information about the status of this species and announced a 60-day comment period to end on May 04, 2015. Today, we extend the public comment period by 60 days to July 6, 2015. Comments previously submitted need not be resubmitted, as they will be fully considered in the agency's 12-month finding.

DATES: The deadline for receipt of comments is extended from May 04, 2015, until July 6, 2015.

ADDRESSES: You may submit comments, information, or data, identified by “NOAA-NMFS-2015-0025” by any one of the following methods:

• Electronic Submissions: Submit all electronic public comments via the Federal eRulemaking Portal. Go to www.regulations.gov/#!docketDetail;D=NOAA-NMFS-2015-0025. Click the “Comment Now” icon, complete the required fields, and enter or attach your comments.

• Mail or hand-delivery: Office of Protected Resources, NMFS, 1315 East-West Highway, Silver Spring, MD 20910.

Instructions: You must submit comments by one of the above methods to ensure that we receive, document, and consider them. Comments sent by any other method, to any other address or individual, or received after the end of the comment period, may not be considered. All comments received are a part of the public record and will generally be posted for public viewing on http://www.regulations.gov without change. All personal identifying information (e.g., name, address, etc.), confidential business information, or otherwise sensitive information submitted voluntarily by the sender will be publicly accessible. We will accept anonymous comments (enter “N/A” in the required fields if you wish to remain anonymous). Attachments to electronic comments will be accepted in Microsoft Word, Excel, or Adobe PDF file formats only

FOR FURTHER INFORMATION CONTACT: Chelsey Young, NMFS, Office of Protected Resources (OPR) (301) 427-8491 or Marta Nammack, NMFS, OPR (301) 427-8469.

SUPPLEMENTARY INFORMATION:

Background

On March 03, 2015, we published a positive 90-day finding on a petition from Friends of Animals requesting that we list the common thresher shark Alopias vulpinus as endangered or threatened under the ESA, or, in the alternative, delineate six distinct population segments (DPSs) of the common thresher shark, as described in the petition, and list them as endangered or threatened. In that notice we also announced the initiation of a status review and solicited information from the public to help inform the status review of the species and determine its risk of extinction.

We received a request to extend the public comment period by 60 days in order to provide the public with additional time to gather relevant information and adequately comment on the validity of the petitioned action in a meaningful and constructive manner. In addition, a technical error on the Regulations.gov Web site prevented the public from accessing materials in the docket folder for the 90-day finding, including existing public comments and other substantive materials. We considered the request and concluded that a 60-day extension should allow sufficient time for responders to submit comments without significantly delaying the completion of the status review. We are therefore extending the close of the public comment period from May 04, 2015 to July 6, 2015. Although we have extended the public comment period, we are unable to extend the deadline for completing the status review. As such, we urge members of the public to submit their comments as soon as possible to allow us more time to review and incorporate the submitted information where appropriate.

Authority

The authority for this action is the Endangered Species Act of 1973, as amended (16 U.S.C. 1531 et seq.).

Dated: April 29, 2015.
Perry F. Gayaldo,
Deputy Director, Office of Protected Resources, National Marine Fisheries Service.

[FR Doc. 2015-10348 Filed 5-1-15; 8:45 am]

BILLING CODE 3510-22-P